DEPARTMENT OF DEFENSE

Department of the Army, Corps of Engineers

Availability of a Draft Feasibility Study With Integrated Environmental Impact Statement, Ala Wai Canal Project, Oahu, HI

AGENCY: Department of the Army, U.S. Army Corps of Engineers, DOD.

ACTION: Notice of Availability.

SUMMARY: The U.S. Army Corps of Engineers (USACE) announces the availability of a Public Review Draft Feasibility Study with Integrated Environmental Impact Statement (EIS), for the Ala Wai Canal Project, Oahu, Hawaii. To better inform potential commenters, a public meeting is scheduled on September 30, 2015 at Washington Middle School in Honolulu, Hawaii. The Draft Feasibility Study/EIS evaluates alternatives to manage flood risk within the Ala Wai watershed, which includes the neighborhoods of Makiki, Manoa, Palolo, Kapahulu, Moiliili, McCully, and Waikiki. It also documents the existing condition of environmental resources in areas considered for locating flood risk management features and potential impacts on those resources that could result from implementing each alternative. The State of Hawaii, Department of Land and Natural Resources is the non-Federal sponsor and the proposing agency for compliance with the Hawaii law on Environmental Impact Statements.

DATES: All written comments must be postmarked on or before October 7, 2015.

ADDRESSES: Written comments may be submitted to the Ala Wai Canal Project, U.S. Army Corps of Engineers, Honolulu District, ATTN: Derek Chow, Chief, Civil and Public Works Branch (CEPOH-PP-C), Building 230, Fort Shafter, HI 96858-5440 or via email to AlaWaiCanalProject@USACE.Army.mil. Oral and written comments may also be submitted at the public meeting described in the SUPPLEMENTARY INFORMATION section.

FOR FURTHER INFORMATION CONTACT: Mr. Derek Chow, U.S. Army Corps of Engineers, Honolulu District, 808-835-4026 or via email at Derek.J.Chow@usace.army.mil .

SUPPLEMENTARY INFORMATION: Before including your address, phone number, email address, or other personal identifying information in your comment, be advised that your entire comment, including your personal identifying information, may be made publicly available at any time. While you can ask in your comment to withhold from public review your personal identifying information, we cannot guarantee that we will be able to do so.

The document is available for review at the following locations including all regional libraries in Hawaii and the library branches in the project area:

(1) Ala Wai Canal Project Web site: www.AlaWaiCanalProject.com;

(2) Hawaii Kai Public Library, 249 Lunalilo Home Road, Honolulu, HI 96825;

(3) Hawaii State Library, 478 S. King Street, Honolulu, HI 96813;

(4) Hilo Public Library, 300 Waianuenue Avenue, Hilo, HI 96720;

(5) Kaimuki Public Library, 1041 Koko Head Avenue, Honolulu, HI 96816;

(6) Kaneohe Public Library, 45-829 Kamehameha Highway, Kaneohe, HI 96744;

(7) Kahului Public Library, 90 School Street, Kahului, HI 96732;

(8) Library for the Blind and Physically Handicapped, 402 Kapahulu Avenue, Honolulu, HI 96815;

(9) Lihue Public Library, 4344 Hardy Street, Lihue, HI 96766;

(10) Manoa Public Library, 2716 Woodlawn Drive, Honolulu, HI 96822;

(11) McCully-Moiliili Public Library, 2211 S. King Street, Honolulu, HI 96826;

(12) Pearl City Public Library, 1138 Waimano Home Road, Pearl City, HI 96782;

(13) University of Hawaii, Hamilton Library, 2550 McCarthy Mall, Honolulu, HI 96822; and

(14) Waikiki-Kapahulu Public Library, 400 Kapahulu Avenue, Honolulu, HI 96815.

Copies may also be requested in writing at (see ADDRESSES).

Proposed Action. The Ala Wai Canal Project, Oahu, Hawaii feasibility study is a single-purpose flood risk management project to reduce riverine flood risks to property and life safety in the Ala Wai Watershed. The Ala Wai Watershed is located on the southeastern side of the island of Oahu, Hawaii. The watershed is 19 square miles and encompasses three sub-watersheds of Makiki, Manoa and Palolo Streams, which all drain into the Ala Wai Canal. The study area includes the most densely populated watershed in Hawaii with approximately 200,000 residents in the developed areas. In addition, Waikiki supports approximately 79,000 visitors on a daily basis.

This study was authorized under Section 209 of the Flood Control Act of 1962 (Pub. L. 87-874), a general study authority that authorizes surveys in harbors and rivers in Hawaii “with a view to determining the advisability of improvements in the interest of navigation, flood control, hydroelectric power development, water supply, and other beneficial uses, and related land resources.”

Alternatives. The Draft Feasibility Study/EIS considers a full range of nonstructural and structural flood risk management alternatives that would meet the proposed action's purpose and need and incorporate measures to avoid and minimize impacts to native aquatic species, stream habitat, and other resources. In response to identified flood-related problems and opportunities, a range of alternatives were evaluated through an iterative screening and formulation process, resulting in identification of a tentatively selected plan.

The Tentatively Selected Plan (TSP) is the National Economic Development (NED) Plan and consists of the following components: improvements to the flood warning system, 6 in-stream debris and detention basins in the upper reaches of the watershed, 1 stand-alone debris catchment feature, 3 multi-purpose detention basins in open space areas through the developed watershed, floodwalls along portions of the Ala Wai Canal, mitigation measures, and 3 associated pump stations to maintain internal drainage. Canal floodwalls would extend approximately 1.7 miles along the left (makai) bank and approximately 0.9 mile along the right (mauka) bank (including gaps for bridges).

Public Involvement. As part of the current public involvement process, all affected Federal, State, and local agencies, Native Hawaiian organizations, private organizations, and the public are invited to review and comment on the Draft Feasibility Study with Integrated EIS. The USACE Honolulu District will hold a public meeting at Washington Middle School, 1633 S. King Street, Honolulu, HI from 5:00 p.m. to 8:00 p.m. on Wednesday, September 30, 2015. Comments may also be submitted as described in (see ADDRESSES) section.

Other Environmental Review Requirements. To the extent practicable, NEPA and HRS Chapter 343 requirements will be coordinated in the preparation of the Final EIS.

Brenda S. Bowen,
Army Federal Register Liaison Officer.

[FR Doc. 2015-20714 Filed 8-20-15; 8:45 am]

BILLING CODE 3720-58-P